EQUAL EMPLOYMENT OPPORTUNITY COMMISSION

Agency Information Collection Activities: Proposed Collection; Comments Request

AGENCY: Equal Employment Opportunity Commission.

ACTION: Notice of Information Collection—Extension With Change: State and Local Government Information Report (EEO-4).

SUMMARY: In accordance with the Paperwork Reduction Act, the Equal Employment Opportunity Commission (EEOC) announces that it intends to submit to the Office of Management and Budget (OMB) a request for a three-year extension with change of the State and Local Government Information Report (EEO-4 Report, Form 164). EEOC is in the process of revising the race and ethnicity categories on the EEO-4 report to conform to OMB's Revisions to the Standards for the Classification of Federal Data on Race and Ethnicity (October 30, 1997) (Revised Standards), as applied in OMB Bulletin No. 00-02, Guidance on Aggregation and Allocation of Data on Race for Use in Civil Rights Monitoring and Enforcement (March 9, 2000). See Appendix A for a draft version of the proposed Form 164. Pending OMB approval of an emergency extension request, to be effective after the current August 31, 2014 expiration date, a regular clearance request for OMB review and approval of a three-year extension of the EEO-4 Report is beginning.

DATES: Written comments on this notice must be submitted on or before October 27, 2014. Pursuant to 42 U.S.C. 2000e-8(c), a public hearing concerning the proposed changes to the EEO-4 will be held at a place and time to be announced. Persons wishing to present their views orally should notify the Commission of their desire to do so in writing no later than September 26, 2014. The request to present views orally at a public hearing should include a written summary of the remarks to be offered.

ADDRESSES: Comments should be sent to Bernadette Wilson, Acting Executive Officer, Executive Secretariat, Equal Employment Opportunity Commission, 131 M Street NE., Washington, DC 20507. As a convenience to commenters, the Executive Secretariat will accept comments totaling six or fewer pages by facsimile (“FAX”) machine. This limitation is necessary to assure access to the equipment. The telephone number of the fax receiver is (202) 663-4114. (This is not a toll-free number). Receipt of FAX transmittals will not be acknowledged, except that the sender may request confirmation of receipt by calling the Executive Secretariat staff at (202) 663-4070 (voice) or (202) 663-4074 (TTD). (These are not toll-free telephone numbers.) Instead of sending written comments to EEOC, you may submit comments and attachments electronically at http://www.regulations.gov, which is the Federal eRulemaking Portal. Follow the instructions online for submitting comments. All comments received through this portal will be posted without change, including any personal information you provide, except as noted below. Copies of comments submitted by the public to EEOC directly or through the Federal eRulemaking Portal will be available for review, by advance appointment only, at the Commission's library between the hours of 9:00 a.m. and 5 p.m. Eastern Time or can be reviewed at http://www.regulations.gov. EEOC reserves the right to refrain from posting comments, including those that contain obscene, indecent, or profane language; contain threats or defamatory statements; contain hate speech directed at race, color, sex, sexual orientation, national origin, ethnicity, age, religion, or disability; or promote or endorse services or products. To schedule an appointment to inspect the comments at EEOC's library, contact the library staff at (202) 663-4630 (voice) or (202) 663-4641 (TTY). (These are not toll-free numbers.)

FOR FURTHER INFORMATION CONTACT: Ronald Edwards, Director, Program Research and Surveys Division, Equal Employment Opportunity Commission, 131 M Street NE., Room 4SW30F, Washington, DC 20507; (202) 663-4949 (voice) or (202) 663-7063 (TTY). Requests for this notice in an alternative format should be made to the Office of Communications and Legislative Affairs at (202) 663-4191 (voice) or (202) 663-4494 (TTY).

SUPPLEMENTARY INFORMATION: The EEOC has collected information from state and local governments with 100 or more full-time employees since 1974. The Commission now proposes to revise the EEO-4 report to conform with OMB's Revisions to the Standards for the Classification of Federal Data on Race and Ethnicity (October 30, 1997) (Revised Standards), as applied in OMB Bulletin No. 00-02, Guidance on Aggregation and Allocation of Data on Race for Use in Civil Rights Monitoring and Enforcement (March 9, 2000). This will require a change of the Form 164.

EEOC will revise the EEO-4 report to include the following race and ethnicity categories: Hispanic or Latino; White; Black or African American; Asian; Native Hawaiian or Other Pacific Islander; American Indian or Alaska Native; and Two or More Races.

Overview of Current Information Collection

Collection Title: State and Local Government Information Report (EEO-4).

OMB—Number: 3046-0008.

Frequency of Report: Biennial.

Type of Respondent: State and local government jurisdictions with 100 or more employees.

Description of Affected Public: State and local governments excluding elementary and secondary public school districts.

Number of Responses: 12,458.

Reporting Hours: 89,188.

Cost Burden: $21,600,000.

Number of Forms: 1.

Form Number: EEOC FORM 164.

Federal Cost: $226,549.

Abstract: Section 709(c) of Title VII of the Civil Rights Act of 1964, as amended, 42 U.S.C. 2000e-8(c), requires employers to make and keep records relevant to a determination of whether unlawful employment practices have been or are being committed, to preserve such records and to produce reports as the Commission prescribes by regulation or order. Accordingly, the EEOC issued regulations at 29 CFR 1602.32-1602.37 prescribing the reporting requirements for State and local governments. State and local governments with 100 or more employees have been required to submit EEO-4 reports since 1974 (biennially in odd-numbered years since 1993). The individual reports are confidential.

EEO-4 data are used by the EEOC to investigate charges of discrimination against state and local governments and to provide information on the employment status of minorities and women. The data are shared with several other Federal agencies. Pursuant to section 709(d) of Title VII of the Civil Rights Act of 1964, 42 U.S.C. 2000e-8(d), as amended, EEO-4 data are shared with State and Local Fair Employment Practices Agencies (FEPAs). Aggregated data are also used by researchers and the general public.

Burden Statement: The estimated number of respondents included in the EEO-4 survey is 9,000 state and local governments. (These 9,000 jurisdictions file about 12,458 reports based on the 2011 filing of the EEO-4.) Reports exceed jurisdictions due to the requirement for some to file separate reports by function. The changes discussed herein will increase respondent burden hours from 73,185 to 89,188 and EEOC costs from $187,500 to $226,549. The burden per report will be 7.16 hours.

Estimated burden hours were calculated by multiplying the number of reports expected to be filed annually (12,458 in 2011) by the estimated average time to complete and submit each report (7.16 hours).

Recurring Costs
Annual responses | Annual burden hours | Burden per report | Burden per cell | EEOC Cost
CURRENT FORM
913 CELLS
14,060 | 73,185 | 5.2 | 0.00575 | $187,500
REVISED FORM
1,245 CELLS
12,458 | 89,188 | 7.16 | 0.00575 | 226,549
* Note: Due to rounding, for this table, figures may not be replicated exactly.

These burden estimates are largely based on an assumption of paper reporting. However, the EEOC has made electronic filing much easier for employers required to file the EEO-4 Report. As a result, more jurisdictions are using this filing method. This development, along with the greater availability of human resource information software, is expected to have significantly reduced the actual burden of reporting. However, empirical data in this area is lacking. Accordingly, efforts will be undertaken by the Commission to (1) develop more reliable estimates of reporting burdens given the significant increase in electronic filing and (2) to implement new approaches to make such reporting even less burdensome.

The other new burden is the one-time cost of employers changing the manner in which they collect and store the new race and ethnicity changes as well as changes to computer programs and systems. There will be no cost for employers whose current systems are already designed to handle the full multiple race and ethnicity classifications, and we estimate that about ten percent of employers currently have this ability. The chart below shows the cost for employers who will have to re-survey the workforce to comply with the new race and ethnicity changes.

One Time Costs

Modifications to Human Resource Information Systems
Labor task requirements | Hours | Hourly rate | Cost
System/Business Analyst | 8 | $55 | $440
Developer | 24 | 65 | 1,560
Tester | 8 | 50 | 400
Total Per Employer |  |  | 2,400
| Jurisdictions | Total costs
Total All Respondents | 9,000 | $21,600,000

Pursuant to the Paperwork Reduction Act of 1995, 44 U.S.C. Chapter 35, and OMB regulation 5 CFR 1320.8(d)(1), the Commission solicits public comment to enable it to:

1. Evaluate whether the proposed collection of information is necessary for the proper performance of the Commission's functions, including whether the information will have practical utility;

2. Improve the accuracy of the Commission's estimate of the burden of the proposed collection of information, including the validity of the methodology and assumptions used;

3. Enhance the quality, utility, and clarity of the information to be collected; and

4. Minimize the burden of the collection of information on those required to respond, including the use of appropriate automated, electronic, mechanical, or other technological collection techniques or other forms of information technology, e.g., permitting electronic submission of responses.

Dated: August 21, 2014.
For the Commission
Jacqueline A. Berrien,
Chair.

BILLING CODE 6570-01-P

[FR Doc. 2014-20444 Filed 8-26-14; 8:45 am]

BILLING CODE 6570-01-C